FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011409-010.

Title: Transpacific Carrier Services, Inc. Agreement.

Parties: Westbound Transpacific Stabilization Agreement, Transpacific Space Utilization Agreement, Asia North America Eastbound Rate Agreement, Transpacific Stabilization Agreement and their constituent member lines: American President Lines, Ltd./APL Co. Pte. Ltd.; Evergreen Marine Corporation; Hanjin Shipping Co., Ltd.; Hapag-Lloyd Container Linie GmbH; Hyundai Merchant Marine Co., Ltd.; Kawasaki Kisen Kaisha, Ltd.; A.P. Moller-Maersk A/S; Mitsui O.S.K. Lines, Ltd.; Nippon Yusen Kaisha, Ltd.; Orient Overseas Container Line Limited; P&O Nedlloyd B.V.; P&O Nedlloyd Limited; Yang Ming Marine Transport Corp.; COSCO Container Lines Co., Ltd.; CMA CGM, S.A.; and China Shipping Container Lines Co., Ltd.

Filing Party: David F. Smith, Esq.; Sher & Blackwell; 1850 M Street, NW.; Suite 900; Washington, DC 20036.

Synopsis: The amendment removes the Westbound Transpacific Stabilization Agreement, the Transpacific Space Utilization Agreement, the Asia North America Eastbound Rate Agreement, and the Transpacific Stabilization Agreement as parties, leaving only individual ocean common carriers as parties to the subject agreement. The amendment also makes conforming changes to the agreement text.

Agreement No.: 011830-003.

Title: Indamex/APL Agreement.

Parties: American President Lines, Ltd.; APL Co. PTE Ltd.; CMA CGM, S.A.; Contship Containerlines; and the Shipping Corporation of India, Ltd.

Filing Parties: Paul M. Keane, Esq.; Cichanowicz, Callan, Keane, Vengrow & Textor, LLP, 61 Broadway; Suite 3000; New York, NY 10006-2802.

Synopsis: The amendment revises the deployment of vessels under the agreement and provides that affiliated companies of the parties may not subcharter slots to third parties without the prior consent of the other parties. The parties request expedited review.

Agreement No.: 011859-001.

Title: TMM/Hanjin Slot Charter Agreement.

Parties: TMM Lines, Limited, LLC., Hanjin Shipping Co., Ltd.

Filing Party: Wayne R. Rohde, Esq.; Sher & Blackwell; 1850 M Street, NW.; Suite 900; Washington, DC 20036.

Synopsis: The amendment adjusts Hanjin's present slot allocation from TMM and provides a range over which the allocation may vary.

Agreement No.: 200233-015.

Title: Packer Avenue Lease and Operating Agreement.

Parties: Philadelphia Regional Port Authority and Astro Holdings, Inc.

Filing Parties: Paul D. Coleman, Esq.; Hoppel, Mayer & Coleman; 1000 Connecticut Avenue, NW.; Washington, DC 20036.

Synopsis: The amendment establishes certain cargo fees for the handling of wheeled military cargo at the leased facility.

Agreement No.: 201157.

Title: USMX-ILA Master Contract.

Parties: United States Maritime Alliance, Ltd., on behalf of Management, and the International Longshoremen's Association, AFL-CIO.

Filing Parties: William M. Spelman, Lambos & Junge; 29 Broadway; 9th Floor; New York, NY 10006; Andre Mazzola, Gleason & Mathews, P.C.; 26 Broadway; 17th Floor; New York, NY 10004.

Synopsis: The agreement establishes the terms and conditions for a new Master Contract covering container and ro-ro operations between the parties and replaces the existing Master Contract. The term of this new contract will be from October 1, 2004, through and including September 30, 2010.

By Order of the Federal Maritime Commission.
Dated: July 9, 2004.
Karen V. Gregory,
Assistant Secretary.

[FR Doc. 04-15992 Filed 7-14-04; 8:45 am]

BILLING CODE 6730-01-P